OFFICE OF PERSONNEL MANAGEMENT

Personnel Demonstration Project; Alternative Personnel Management System for the U.S. Department of Commerce

AGENCY: Office of Personnel Management.

ACTION: Notice of Amendment to expand coverage of all provisions of the Department of Commerce Personnel Management Demonstration Project to include additional organizations within the Department of Commerce.

SUMMARY: Section 4703 of title 5 U.S.C. authorizes the Office of Personnel Management (OPM) to conduct demonstration projects that experiment with new and different human resources management concepts to determine whether changes in policies and procedures result in improved Federal human resources management. OPM approved a demonstration project covering several operating units of the U.S. Department of Commerce (DoC). The Code of Federal Regulations (5 CFR 470.315) requires that modifications to approved demonstration project plans be approved by OPM. This notice proposes to expand the coverage of the demonstration project to include additional organizations within the Department and to increase the number of participants to the legal maximum of 5,000 participants. This notice serves to list all organizations within DoC that will be included in the Demonstration Project during its expansion phase. This notice also lists additional occupational series to be included as part of the expansion. The Department will follow the final plan as published in the Federal Register dated December 24, 1997, and the Federal Register Notice of Modification dated September 30, 1999, except for minor changes noted in Section III of this Federal Register Notice. These changes do not require waivers.

DATES: This notice may be implemented October 5, 2003.

FOR FURTHER INFORMATION CONTACT: Department of Commerce: Edward Liverani, U.S. Department of Commerce, 14th and Constitution Avenue, NW., Room 5004, Washington, DC 20230, (202) 482-0272. Office of Personnel Management: Delmar White, U.S. Office of Personnel Management, 1900 E Street, NW., Room 7660, Washington, DC 20415, (202) 606-1578.

SUPPLEMENTARY INFORMATION:

1. Background

The Office of Personnel Management (OPM) approved the Department of Commerce (DoC) Demonstration project and published the final plan in the Federal Register on Wednesday, December 24, 1997, Volume 62, Number 247, Part II. The project was implemented on March 29, 1998, and modified in the Federal Register on Thursday, September 30, 1999, Volume 64, Number 189 (Notices) (Pages 52810-58212.)

OPM approved a request to extend the DoC demonstration project for 5 years as stated in an administrative letter from OPM, dated February 14, 2003. The key features of the project involve increased delegation of authority and accountability to line managers, simplified classification and broad banding, pay for performance, hiring and pay setting flexibilities, and modified Reduction-in-Force (RIF) procedures.

This Federal Register Notice covers 1,505 additional employees. Currently, the demonstration project has 2,900 employees. The remaining additional employee slots are being reserved for the near future, pending reorganization. In the event more employees are added up to the maximum limit of 5,000, another Federal Register Notice will be published to provide employee notification.

Office of Personnel Management.
Kay Coles James,
Director.

I. Executive Summary

The Department of Commerce (DoC) demonstration project utilizes many features similar to those implemented by the National Institute of Standards and Technology (NIST) demonstration project in 1988. The DoC project supports several key objectives: To simply the classification system for greater flexibility in classifying work and paying employees; to establish a performance management and rewards system for improving individual and organizational performance; and to improve recruitment and retention to attract highly qualified candidates. The DoC project is designed to test whether the interventions of the NIST project, which is now a permanent alternative system, could be successful in other DoC environments. The current participating organizations include the Technology Administration, the Bureau of Economic Analysis, the Institute for Telecommunication Sciences, and three units of the National Oceanic and Atmospheric Administration: Office of Oceanic and Atmospheric Research, National Marine Fisheries Service, and the National Environmental Satellite, Data, and Information Service.

II. Introduction

A. Purpose

The Department's personnel demonstration project is designed to provide managers at the lowest organizational level the authority, control and flexibility needed to recruit, retain, develop, recognize, and motivate its workforce, while ensuring adequate accountability and oversight. Expansion of the demonstration project will allow the DoC to broaden the scope of this test to additional organizations with different missions. This should improve the Department's assessment of the effectiveness of its interventions in its efforts to compete more effectively for high quality personnel, while strengthening the manager's role in human resources management.

All provisions of the Department's personnel demonstration project, as published in the Federal Register Notice, dated December 24,1997, and the Notice of Modification dated September 30, 1999, will apply. This notice also serves to make changes to the plan to accommodate the expansion. These changes include the addition of specific occupational series, Departmental Personnel Management Board composition, and pre-project cost formulas for the CFO/ASA organization.

Employee notification will be made by delivery of a copy of the December 24, 1997, final plan, any subsequent modifications and this notice. Training for supervisors and employees will be accomplished by informational briefings and training sessions prior to implementation.

B. Participating Employees

Employee notification of this expansion proposal has been accomplished by providing a full set of briefings to employees and managers and providing them electronic access to all Demonstration Project policies and procedures including the two previous Demonstration Project Federal Register Notices. We will also provide employees with a copy of this proposed Federal Register Notice upon approval. Subsequent supervisor training and informational briefings for all employees will be accomplished prior to the implementation date of the expansion.

The demonstration project will be expanded to cover all nonbargaining unit employees in the following organizations at all duty locations. The following organizations are added to the final plan, Section II.D. Participating Organizations: Within the Office of the Chief Financial Officer and Assistant Secretary for Administration (CFO/ASA), approximately 450 new employees from the following offices covering all their duty locations will be added at this time to the demonstration project as part of the expansion:

Office of Security

Office of Management and Organization

Office of Financial Management

Office of Human Resources Management

Office of Administrative Services

Office of Acquisition Management

The DoC demonstration project will also be expanded to include 1,055 additional employees in the following organizations and locations within the National Oceanic and Atmospheric Administration (NOAA):

Within the National Oceanic and Atmospheric Administration:

Program Planning and Integration Office, Silver Spring, MD

Within the Office of Oceanic and Atmospheric Research:

Geophysical Fluid Dynamics Research Laboratory, Princeton, N.J.

Within the National Marine Fisheries Service:

Pacific Islands Regional Office, Honolulu, HI.

Pacific Islands Fisheries Science Center, Honolulu, HI.

Nonbargaining unit employees in the following organizations:

Northeast Fisheries Science Center, Woods Hole, MA, and Laboratories in Narragansett, RI, Milford, CT, Sandy Hook, NJ, and Washington, DC.

Southeast Regional Office, St. Petersburg, FL.

Southeast Fisheries Science Center, Miami, FL, and Laboratories at Panama City, FL, Pascagoula and Bay St. Louis, MS, and Galveston, TX.

Southwest Fisheries Science Center, La Jolla, CA, and Laboratories in Santa Cruz and Pacific Grove, CA.

Northwest Fisheries Science Center, Seattle, WA, and Laboratories in Newport and Hammond, OR, and Manchester, Pasco, and Mukilteo, WA.

Alaska Fisheries Science Center, Seattle, WA, and Auke Bay Laboratory in Juneau, AK.

Within the National Environmental Satellite, Data and Information Service:

Nonbargaining unit employees in the following organization:

Wallops Island Command and Data Acquisition Station, Wallops Island, VA.

C. Changes to the Plan

(1) Section II. E: Participating Employees

The following series are added to Table 2.

Scientific and Engineering (ZP) Career Path
0410 | Zoology Series.
0413 | Physiology Series.
0440 | Genetics Series.
0690 | Industrial Hygiene Series.
0808 | Architecture Series.
0819 | Environmental Engineering Series.
0871 | Naval Architecture Series.
0896 | Industrial Engineering Series.
1370 | Cartography Series.
2210 | Information Technology Management Series.
2299 | Information Technology Student Trainee Series.
Scientific and Engineering Technician (ZT) Career Path
0350 | Equipment Operator Series.
0817 | Surveying Technician Series.
1371 | Cartographic Technician Series.
1374 | Geodetic Technician Series.
1862 | Consumer Safety Inspection Series.
Administrative (ZA) Career Path
0080 | Security Administration Series.
0083 | Police Series.
0085 | Security Guard Series.
0018 | Safety and Occupational Health Management Series.
0150 | Georgraphy Series.
0170 | History Series.
0201 | Human Resources Management Series.
0399 | Administration and Office Support Student Trainee Series.
0505 | Financial Management Series.
0599 | Financial Management Student Trainee.
0828 | Construction Analyst Series.
0963 | Legal Instruments Examining Series.
1008 | Interior Design Series.
1015 | Museum Curator Series.
1016 | Museum Specialist and Technician Series.
1020 | Illustrating Series.
1060 | Photography Series.
1102 | Contracting Series.
1104 | Property Disposal Series.
1152 | Production Control Series.
1170 | Realty Series.
1176 | Building Management Series.
1361 | Navigational Information Series.
1640 | Facility Operations Services Series.
1701 | General Education and Training Series.
2001 | General Supply Series.
2010 | Inventory Management Series.
2030 | Distribution Facilities and Storage Management Series.
2101 | Transportation Specialist Series.
2130 | Traffic Management Series.
Support (ZS) Career Path
0086 | Security Clerical and Assistance Series.
0203 | Human Resources Assistance Series.
0351 | Printing Clerical Series.
0356 | Data Transcriber Series.
0361 | Equal Opportunity Assistance Series.
0503 | Financial Clerical and Assistance Series.
0544 | Civilian Pay Series.
1106 | Procurement Clerical and Technician Series.
1421 | Archives Technician Series.
1802 | Compliance Inspection and Support Series.

(2) Section VII: Project Management

The Departmental Personnel Management Board will expand to include additional board members representing the new major operating units included in the project. It is the intent of the DoC to ensure the composition of the board reflects the diversity of employee groups to ensure the objectives of the demonstration project are achieved in an equitable and consistent manner.

(3) Section V: B. Base Cost Assessment

The current plan identifies Fiscal Years 1994, 1995, and 1996 as the basis of analysis of pre-project costs to determine whether project costs are being maintained at acceptable levels. Since CFO/ASA has never participated in the demonstration project, costs will be computed as annual averages over the past three pre-project fiscal years immediately preceding implementation, within CFO/ASA offices. NOAA will continue using FY 1994-96 as its cost basis, since it was part of the demonstration project during these years.

[FR Doc. 03-23688 Filed 9-16-03; 8:45 am]

BILLING CODE 6325-43-M